DEPARTMENT OF ENERGY

Federal Energy Regulatory Commission

Combined Notice of Filings #1

Take notice that the Commission received the following electric corporate filings:

Docket Numbers: EC24-125-000.

Applicants: Darby Power, LLC, Gavin Power, LLC, Lawrenceburg Power, LLC, Waterford Power, LLC, Lightstone Marketing LLC, ECP ControlCo, LLC.

Description: Joint Application for Authorization Under Section 203 of the Federal Power Act of Darby Power, LLC, et al.

Filed Date: 9/27/24.

Accession Number: 20240927-5296.

Comment Date: 5 p.m. ET 11/26/24.

Docket Numbers: EC24-126-000.

Applicants: Griffith Energy LLC, Onward Griffith Holdings, LLC.

Description: Joint Application for Authorization Under Section 203 of the Federal Power Act of Griffith Energy LLC, et al.

Filed Date: 9/27/24.

Accession Number: 20240927-5297.

Comment Date: 5 p.m. ET 10/18/24.

Take notice that the Commission received the following Complaints and Compliance filings in EL Dockets:

Docket Numbers: EL24-113-000.

Applicants: Independent Market Monitor for PJM v. Indicated Energy Efficiency Sellers.

Description: Offer of Settlement of the Independent Market Monitor for PJM.

Filed Date: 9/30/24.

Accession Number: 20240930-5359.

Comment Date: 5 p.m. ET 10/22/24.

Take notice that the Commission received the following electric rate filings:

Docket Numbers: ER10-2302-011; ER19-2674-004.

Applicants: New Mexico PPA Corporation, Public Service Company of New Mexico.

Description: Notice of Non-Material Change in Status of Public Service Company of New Mexico, et al.

Filed Date: 9/27/24.

Accession Number: 20240927-5295.

Comment Date: 5 p.m. ET 10/18/24.

Docket Numbers: ER17-261-005.

Applicants: Lawrenceburg Power, LLC.

Description: Compliance filing: Lawrenceburg Informational Filing to be effective 12/1/2018.

Filed Date: 9/30/24.

Accession Number: 20240930-5288.

Comment Date: 5 p.m. ET 10/21/24.

Docket Numbers: ER17-262-005.

Applicants: Waterford Power, LLC.

Description: Compliance filing: Waterford Informational Filing to be effective 8/1/2018.

Filed Date: 9/30/24.

Accession Number: 20240930-5299.

Comment Date: 5 p.m. ET 10/21/24.

Docket Numbers: ER24-2448-002.

Applicants: Wisconsin Electric Power Company.

Description: Tariff Amendment: Notice Regarding August 28, 2024 Deficiency Letter to be effective 9/1/2024.

Filed Date: 10/1/24.

Accession Number: 20241001-5260.

Comment Date: 5 p.m. ET 10/22/24.

Docket Numbers: ER24-3059-000.

Applicants: Dan's Mountain Wind Force, LLC.

Description: Supplement to 09/17/2024 Dan's Mountain Wind Force, LLC tariff filing.

Filed Date: 9/26/24.

Accession Number: 20240926-5194.

Comment Date: 5 p.m. ET 10/8/24.

Docket Numbers: ER24-3158-000.

Applicants: Public Service Company of New Mexico.

Description: § 205(d) Rate Filing: Economic Benefit Contracts to be effective 10/1/2024.

Filed Date: 9/30/24.

Accession Number: 20240930-5280.

Comment Date: 5 p.m. ET 10/21/24.

Docket Numbers: ER24-3159-000.

Applicants: Public Service Company of Colorado.

Description: § 205(d) Rate Filing: 2024-09-30-PSC-SSL-AP-2023-3-APSISA-755-0.0.0 to be effective 10/1/2024.

Filed Date: 9/30/24.

Accession Number: 20240930-5326.

Comment Date: 5 p.m. ET 10/21/24.

Docket Numbers: ER25-1-000.

Applicants: Consolidated Edison Company of New York, Inc.

Description: § 205(d) Rate Filing: Amendment of CESD Surcharge 9-2024 to be effective 10/1/2024.

Filed Date: 10/1/24.

Accession Number: 20241001-5004.

Comment Date: 5 p.m. ET 10/22/24.

Docket Numbers: ER25-2-000.

Applicants: Midcontinent Independent System Operator, Inc., Missouri Joint Municipal Electric Utility Commission.

Description: § 205(d) Rate Filing: Midcontinent Independent System Operator, Inc. submits tariff filing per 35.13(a)(2)(iii: 2024-10-01_MJMEUC Request for Approval of Capital Structure Compliance to be effective 1/1/2025.

Filed Date: 10/1/24.

Accession Number: 20241001-5102.

Comment Date: 5 p.m. ET 10/22/24.

Docket Numbers: ER25-3-000.

Applicants: Escalante Solar I, LLC.

Description: Tariff Amendment: Notice of Cancellation of Rate Schedule to be effective 12/31/9998.

Filed Date: 10/1/24.

Accession Number: 20241001-5185.

Comment Date: 5 p.m. ET 10/22/24.

Docket Numbers: ER25-4-000.

Applicants: Escalante Solar II, LLC.

Description: Tariff Amendment: Notice of Cancellation of Rate Schedule to be effective 12/31/9998.

Filed Date: 10/1/24.

Accession Number: 20241001-5186.

Comment Date: 5 p.m. ET 10/22/24.

Docket Numbers: ER25-5-000.

Applicants: Escalante Solar III, LLC.

Description: Tariff Amendment: Notice of Cancellation of Rate Schedule to be effective 12/31/9998.

Filed Date: 10/1/24.

Accession Number: 20241001-5188.

Comment Date: 5 p.m. ET 10/22/24.

Docket Numbers: ER25-6-000.

Applicants: Northern States Power Company, a Minnesota corporation.

Description: Tariff Amendment: 2024-10-01 NSP-CAPX-Brookings-CMA-NOC 536 to be effective 6/1/2024.

Filed Date: 10/1/24.

Accession Number: 20241001-5219.

Comment Date: 5 p.m. ET 10/22/24.

Docket Numbers: ER25-7-000.

Applicants: Cascade Energy Storage II LLC.

Description: Baseline eTariff Filing: Application for Market-Based Rate Authorization, Request for Related Waivers to be effective 10/8/2024.

Filed Date: 10/1/24.

Accession Number: 20241001-5281.

Comment Date: 5 p.m. ET 10/22/24.

Take notice that the Commission received the following electric securities filings:

Docket Numbers: ES24-62-000.

Applicants: Upper Peninsula Power Company.

Description: Application Under Section 204 of the Federal Power Act for Authorization to Issue Securities of Upper Peninsula Power Company.

Filed Date: 9/27/24.

Accession Number: 20240927-5294.

Comment Date: 5 p.m. ET 10/18/24.

Docket Numbers: ES24-63-000.

Applicants: El Paso Electric Company.

Description: Application Under Section 204 of the Federal Power Act for Authorization to Issue Securities of El Paso Electric Company.

Filed Date: 9/30/24.

Accession Number: 20240930-5369.

Comment Date: 5 p.m. ET 10/21/24.

Docket Numbers: ES25-1-000.

Applicants: GridLiance High Plains LLC.

Description: Application Under Section 204 of the Federal Power Act for Authorization to Issue Securities of GridLiance High Plains LLC.

Filed Date: 10/1/24.

Accession Number: 20241001-5338.

Comment Date: 5 p.m. ET 10/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 1, 2024.
Debbie-Anne A. Reese,
Acting Secretary.

[FR Doc. 2024-23189 Filed 10-7-24; 8:45 am]

BILLING CODE 6717-01-P